DEPARTMENT OF THE INTERIOR

National Park Service

[NPS-AKR-ANIA-CAKR-DENA-GAAR-KOVA-LACL-WRST-40394; PPAKAKROR4, PPMPRLE1Y.LS0000]

Request for Nominations for the National Park Service Alaska Region Subsistence Resource Commission Program

AGENCY: National Park Service, Interior.

ACTION: Request for nominations.

SUMMARY: The National Park Service (NPS) is seeking nominations for individuals to represent subsistence users on the following Subsistence Resource Commissions (SRC): the Aniakchak National Monument SRC, the Cape Krusenstern National Monument SRC, the Denali National Park SRC, the Gates of the Arctic National Park SRC, the Kobuk Valley National Park SRC, the Lake Clark National Park SRC, and the Wrangell-St. Elias National Park SRC.

DATES: Nominations must be postmarked by March 9, 2026.

ADDRESSES: Nominations should be sent to: Eva Patton, Regional Subsistence Program Manager, National Park Service Alaska Regional Office, 240 W 5th Avenue, Anchorage, AK 99501, or eva_patton@nps.gov.

FOR FURTHER INFORMATION CONTACT: Eva Patton via telephone at (907) 644-3601. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The NPS SRC program is authorized under section 808 of the Alaska National Interest Lands Conservation Act (16 U.S.C. 3118). The SRCs hold meetings to develop NPS subsistence program recommendations and advise on related regulatory proposals and resource management issues.

Each SRC is composed of nine members: (a) three members appointed by the Secretary of the Interior; (b) three members appointed by the Governor of the State of Alaska; and (c) three members appointed by a Regional Advisory Council (RAC), established pursuant to 16 U.S.C. 3115, which has jurisdiction within the area in which the park is located. Each of the three members appointed by the RAC must be a member of either the RAC or a local advisory committee within the region who also engages in subsistence uses within the park or national monument.

We are now seeking nominations for those members of each of the SRCs listed above. These members are to be appointed by the Secretary of the Interior.

Members will be appointed for a term of three years. Members of the SRC serve without compensation. However, while away from their homes or regular places of business in the performance of services for the SRC, and as approved by the Designated Federal Officer (DFO), members may be allowed travel expenses, including per diem in lieu of subsistence, in the same manner as persons employed intermittently in Government service are allowed such expenses under Section 5703 of Title 5 of the United States Code.

Members are expected to make every effort to attend all meetings. Members may not appoint deputies or alternates.

All those interested in serving as members, including current members whose terms are expiring, must follow the same nomination process.

Nominations should be typed and should include a resume providing an adequate description of the nominee's qualifications, including information that would enable the Department of the Interior to make an informed decision regarding meeting the membership requirements of the SRC, and to permit the Department to contact a potential member.

Authority: 5 U.S.C. Ch. 10.

Alma Ripps,
Chief, Office of Policy.

[FR Doc. 2025-22233 Filed 12-5-25; 8:45 am]

BILLING CODE 4312-52-P